SECURITIES AND EXCHANGE COMMISSION

Sunshine Act Meeting

Federal Register Citation of Previous Announcement: [68 FR 64672, November 14, 2003]

Status: Closed meeting.

Place: 450 Fifth Street, NW., Washington, DC.

Announcement of Additional Meeting: Additional meeting.

An additional Closed Meeting will be held on Wednesday, November 19, 2003 at 3 p.m.

Commissioners, Counsel to the Commissioners, the Secretary to the Commission, and recording secretaries will attend the Closed Meeting. Certain staff members who have an interest in the matter may also be present.

Commissioner Glassman, as duty officer, determined that no earlier notice thereof was possible.

The General Counsel of the Commission, or his designee, has certified that, in his opinion, one or more of the exemptions set forth in 5 U.S.C. 552b(c) (5), (7), and (10) and 17 CFR 200.402(a) (5), (7), and (10), permit consideration of the scheduled matters at the Closed Meeting.

Commissioner Glassman, as duty officer, voted to consider the items listed for the closed meeting in a closed session.

The subject matter of the Closed Meeting to be held on Wednesday, November 19, 2003 will be:

Report of Investigation.

At times, changes in Commission priorities require alterations in the scheduling of meeting items. For further information and to ascertain what, if any, matters have been added, deleted or postponed, please contact the Office of the Secretary at (202) 942-7070.

Dated: November 18, 2003.
Jonathan G. Katz,
Secretary.

[FR Doc. 03-29293 Filed 11-19-03; 1:20 pm]

BILLING CODE 8010-01-P